COMMISSION ON CIVIL RIGHTS

Sunshine Act Notice—Amended

AGENCY: United States Commission on Civil Rights.

ACTION: Notice of Meeting.

DATE AND TIME: Friday, December 17, 2010; 11:30 a.m. EST.

PLACE: Via Teleconference, Public Dial In: 1-800-597-7623, Conference ID#: 31039129.

Meeting Agenda

This meeting is open to the public.

I. Approval of Agenda

II. Welcome New Commissioners

III. Management and Operations:

• Review of transition, order of succession, continuity of operations.

• Review of 2011 meeting calendar.

• Staff Director's report.

IV. Program Planning: Update and discussion of projects.

• Cy Pres.

• Disparate Impact in School Discipline Policies.

• Gender and the Wage Gap.

• Title IX—Sex Discrimination in Liberal Arts College Admissions.

• Eminent Domain Project.

• NBPP.

V. State Advisory Committee Issues:

• Update on status of North Dakota, Illinois and Minnesota SACs.

• Update on Vermont SAC.

VI. Approval of Minutes of December 3, 2010 Meeting

VII. Announcements

VIII. Adjourn

CONTACT PERSON FOR FURTHER INFORMATION: Lenore Ostrowsky, Acting Chief, Public Affairs Unit (202) 376-8591. TDD: (202) 376-8116.

Persons with a disability requiring special services, such as an interpreter for the hearing impaired, should contact Pamela Dunston at least seven days prior to the meeting at 202-376-8105. TDD: (202) 376-8116.

Dated: December 9, 2010.
David Blackwood,
General Counsel.

[FR Doc. 2010-31347 Filed 12-9-10; 4:15 pm]

BILLING CODE 6335-01-P